DEPARTMENT OF EDUCATION

National Board for Education Sciences; Meeting

AGENCY: Institute of Education Sciences, U.S. Department of Education.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the meeting.

DATES: October 14, 2011.

Time: 8:30 a.m. to 5:00 p.m.

ADDRESSES: 80 F Street, NW., Room 100, Washington, DC 20001.

FOR FURTHER INFORMATION CONTACT: Monica Herk, Executive Director, National Board for Education Sciences, 555 New Jersey Ave., NW., Room 602 K, Washington, DC 20208; phone: (202) 208-3491; fax: (202) 219-1466; e-mail: Monica.Herk@ed.gov.

SUPPLEMENTARY INFORMATION: The National Board for Education Sciences is authorized by Section 116 of the Education Sciences Reform Act of 2002 (ESRA), 20 U.S.C. 9516. The Board advises the Director of the Institute of Education Sciences (IES) on, among other things, the establishment of activities to be supported by the Institute and the funding of applications for grants, contracts, and cooperative agreements for research after the completion of peer review, and reviews and evaluates the work of the Institute.

On October 14, 2011, starting at 8:30 a.m., the Board will approve the agenda and hear remarks from the chair, Jon Baron. John Easton, IES Director, will introduce Deborah Speece, the newly appointed Commissioner of the National Center for Special Education Research. The Commissioners of the national centers will give an overview of recent developments at IES. From 9:30 to 10:45 a.m., Board members will consider the topic of “Peer Review of Research Proposals: The IES approach, and possible refinements to increase findings of policy importance.” Opening remarks by Anne Ricciuti, the IES Deputy Director for Science, will be followed by Board discussion. A break will take place from 10:45 to 11:00 a.m.

From 11:00 a.m. to 12:00 noon, the Board will take up the topic, “The Administration's `Tiered' Evidence Initiatives in Education and Other Areas.” Following a brief presentation by Kathy Stack, Deputy Associate Director for Education and Human Resources, Office of Management and Budget, Board members will engage in a roundtable discussion of the issues raised by the presentation. The meeting will break for lunch from 12:00 to 1:00 p.m.

Following lunch the Board will turn to the topic, “The Congressionally-established Committee on Science, Technology, Engineering and Math Education (CoSTEM)” from 1:00 to 2:00 p.m. After opening remarks by Carl Wieman, Associate Director for Science at the White House Office of Science and Technology Policy, and Co-Chair of CoSTEM, the Board will discuss the issues raised.

Next, from 2:00 to 3:20 p.m., the Board will address “Continuous Improvement Research: Is it a path for achieving program effectiveness in large-scale implementation?” Following opening remarks by Gilbert Botvin of Weill Cornell Medical College and Anthony Bryk, an NBES member and President of the Carnegie Foundation for the Advancement of Teaching, the Board will engage in roundtable discussion.

An afternoon break from 3:20 to 3:30 p.m. will precede a discussion of “NBES Annual Reports” from 3:30 to 4:10 p.m. Monica Herk, NBES's Executive Director, will kickoff the discussion by laying out the statutory requirements for the annual report and describing how they have been produced in the past. Her remarks will be followed by Board discussion.

From 4:10 to 4:40 p.m., the Board will elect Board leaders. At approximately 4:40 p.m., there will be closing remarks and a consideration of next steps from the IES Director and NBES Chair, with adjournment scheduled for 5:00 p.m.

Individuals who will need accommodations for a disability in order to attend the meeting (e.g., interpreting services, assistance listening devices, or materials in alternative format) should notify Monica Herk no later than September 30. We will attempt to meet requests for accommodations after this date but cannot guarantee their availability. The meeting site is accessible to individuals with disabilities.

There will not be an opportunity for public comment. However, members of the public are encouraged to submit written comments related to NBES to Monica Herk (see contact information above). A final agenda will be available from Monica Herk (see contact information above) on September 30 and will be posted on the Board Web site: http://ies.ed.gov/director/board/agendas/index.asp.

Records are kept of all Committee proceedings and are available for public inspection at 555 New Jersey Ave., NW., Room 602 K, Washington, DC 20208, from the hours of 9 a.m. to 5 p.m., Eastern Time Monday through Friday.

Electronic Access to This Document: You may view this document, as well as all other documents of this Department published in the Federal Register, in text or Adobe Portable Document Format (PDF) on the Internet at the following site: http://www.ed.gov/news/fed-register/index.html.

To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: http://www.gpoaccess.gov/nara/index.html.

John Q. Easton,
Director, Institute of Education Sciences.

[FR Doc. 2011-24409 Filed 9-21-11; 8:45 am]

BILLING CODE 4000-01-P